ENVIRONMENTAL PROTECTION AGENCY

[OPP-2003-0291; FRL-7331-1]

Notice of Receipt of Requests to Voluntarily Cancel Certain Pesticide Registrations for Products Containing Tributyltin Methacrylate, and to Amend Certain Pesticide Registrations Containing Bis(tributyltin) Oxide to Terminate a Use

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations and to amend certain pesticide registrations to terminate a use. Atofina Chemicals, Inc. and Crompton Corporation have requested that the registrations for all their tributyltin products registered for use in formulating antifouling paints or which are themselves antifouling paints be canceled, or if the products are registered for use in formulating other pesticides in addition to antifouling paints, that those registrations be amended to terminate the antifoulant use. Both registrants have requested that the voluntary cancellations and use terminations become effective as of November 30, 2003. Both companies have requested that they be permitted to sell affected products without change to the labels until that date and no later; no separate existing stocks provisions are necessary since the Agency intends to allow them to sell the affected products only until the effective date as requested. Both companies have waived the 180-day comment period typically allowed after a request for voluntary cancellation, and both companies have stated that their requests are irrevocable.

DATES: Unless the Agency receives substantive comments within the 30-day comment period that would merit further review of the requests, the Agency intends to issue orders granting these requests to cancel certain products, and to amend to terminate certain uses. Comments, identified by docket ID number OPP-2003-0291, must be received on or before January 5, 2004.

ADDRESSES: Comments may be submitted electronically, by mail, or through hand delivery/courier. Please follow the detailed instructions for each method as provided in Unit I.C. of the SUPPLEMENTARY INFORMATION.

FOR FURTHER INFORMATION CONTACT: Jill Bloom, Special Review and Reregistration Division (7508C), Office of Pesticide Programs, Environmental Protection Agency, 1200 Pennsylvania Ave., NW., Washington, DC 20460-0001; telephone number: (703) 308-8019; e-mail address: bloom.jill@epamail.epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0291. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPP-2003-0291. The system is an “anonymous access” system, which means EPA will not know your identity, e-mail address, or other contact information unless you provide it in the body of your comment.

ii. E-mail. Comments may be sent by e-mail to opp-docket@epa.gov, Attention: Docket ID Number OPP-2003-0291. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID Number OPP-2003-0291.

3. By hand delivery or courier. Deliver your comments to: Public Information and Records Integrity Branch (PIRIB), Office of Pesticide Programs (OPP), Environmental Protection Agency, Rm. 119, Crystal Mall #2, 1921 Jefferson Davis Hwy., Arlington, VA, Attention: Docket ID Number OPP-2003-0291. Such deliveries are only accepted during the docket's normal hours of operation as identified in Unit I.B.1.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the registration activity.

7. Make sure to submit your comments by the deadline in this notice.

8. To ensure proper receipt by EPA, be sure to identify the docket ID number assigned to this action in the subject line on the first page of your response. You may also provide the name, date, and Federal Register citation.

II. What Action is the Agency Taking?

This notice announces receipt by the Agency of requests from Atofina to cancel its EPA Registration Numbers shown below. Atofina submitted a letter dated September 10, 2003 to the Agency requesting the voluntary cancellation of their registrations for these products containing tributyltin methacrylate. The letter was received by the Agency on September 12, 2003. The affected registrations are listed in Table 1 of this unit:

Table 1.—Requests for Cancellation
Registration Number | Product Name | Chemical Name
5204-63 | Biomet 300 Antifouling Agent | Tributyltin methacrylate
5204-65 | Biomet 302 Antifouling Agent | Tributyltin methacrylate
5204-67 | Biomet 304 Antifouling Agent | Tributyltin methacrylate
5204-80 | Biomet 303/60 Antifouling Agent | Tributyltin methacrylate
5204-81 | Biomet 304/60 Antifouling Agent | Tributyltin methacrylate
5204-83 | Polyflo 4024 | Tributyltin methacrylate
5204-87 | Biomet 305 | Tributyltin methacrylate
5204-88 | Biomet 309 | Tributyltin methacrylate
5204-90 | Biomet 300/60 Antifouling Agent | Tributyltin methacrylate

This notice also announces receipt by the Agency of requests from Atofina and Crompton to amend their EPA Registration Numbers 5204-1 and 8898-17, respectively, to terminate their use for formulation of antifouling paints. Atofina and Crompton submitted letters dated September 10, 2003 and September 29, 2003 (as subsequently clarified and corrected by Crompton's letter dated October 29, 2003), respectively, to the Agency requesting the amendment of registrations to terminate this use for these products containing bis(tributyltin) oxide. The letter from Atofina was received by the Agency on September 12, 2003; the letters from Crompton were received by the Agency on September 30, 2003 and October 29, 2003, respectively. The affected registrations are listed in Table 2 of this unit:

Table 2.—Requests for Amendment to Terminate Uses
Registration Number | Product Name | Chemical Name
5204-1 | Biomet TBTO | Bis(tributyltin) oxide
8898-17 | Eurotin TBTO | Bis(tributyltin) oxide

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or use termination of any minor agricultural use before granting the request, unless (1) the registrants request a waiver of the comment period, or (2) the Administrator determines that continued use of the pesticide would pose an unreasonable adverse effect on the environment. The registrants have requested that EPA waive the 180-day comment period. EPA will provide a 30-day comment period on the proposed requests. EPA anticipates granting the cancellation requests and requests for termination of uses shortly after the end of the 30-day comment period for this notice unless the Agency receives substantive comments within the comment period that would merit further review of the request.

Unless substantive comments are submitted which merit further review, the Agency intends to issue orders canceling the subject registrations and granting the amendments affecting the use terminations associated with the requests. Users of these pesticides or anyone else desiring the retention of a registration or particular use should contact the appropriate registrant and the person listed under FOR FURTHER INFORMATION CONTACT before the lapse of this 30-day period.

Table 3 of this unit includes the name and address of record for the registrants of the products in Table 1 and 2 of this unit:

Table 3.—Registrants Requesting Voluntary Cancellation and/or Amendment to Terminate Uses
EPA Company Number | Company Name and Address
5204 | Atofina Chemicals, Inc., 2000 Market Street, Philadelphia, PA 19103-3222
8898 | Crompton Corporation, 1 American Way, Greenwich, CT 06831

III. What is the Agency's Authority for Taking this Action?

Section 6(f)(1) of FIFRA provides that a registrant of a pesticide product may at any time request that any of its pesticide registrations be canceled or amended to terminate one or more pesticide uses. FIFRA further provides that, before acting on the request, EPA must publish a notice of receipt of any such request in the Federal Register. Thereafter, the Administrator may approve such a request.

IV. Provisions for Disposition of Existing Stocks

The effective date of cancellation will be the date of the cancellation order. The orders effecting requested cancellations generally permit a registrant to sell or distribute existing stocks for one year after the date the cancellation request was received. This policy is in accordance with the Agency's statement of policy as prescribed in the Federal Register of June 26, 1991 (56 FR 29362) (FRL-3846-4). Exceptions to this general rule will be made if a product poses a risk concern, or is in noncompliance with reregistration requirements, or is subject to a Data Call-In. In all cases, product-specific disposition dates will be given in the cancellation orders.

In this case, Atofina requested in its letter dated September 10, 2003 that the Agency allow it to sell existing stocks of its affected products for which Atofina requested voluntary cancellation until November 30, 2003, which is the same date that Atofina requested the cancellations to be effective. In their letters dated September 10, 2003 and September 29, 2003 (as subsequently clarified and corrected by Crompton's letter dated October 29, 2003) respectively, Atofina and Crompton also requested that the Agency allow them to sell stocks of their affected products for which they have requested amendment to terminate uses, bearing labels allowing the use which is the subject of the use termination request, until that same date, November 30, 2003. The Agency anticipates granting these requests shortly after the end of the 30-day comment period for this notice unless the Agency receives substantive comments within the comment period that would merit further review of the request. The cancellation and use termination orders which effect the requests of these two registrants for their TBT antifoulant and antifouling paint registrations will effectively serve as the existing stocks orders for the affected registrations.

Existing stocks are those stocks of registered pesticide products which are currently in the United States and which have been packaged, labeled, and released for shipment prior to the effective date of the cancellation action. In this instance, and consistent with their own requests, Atofina and Crompton will not be permitted existing stocks provisions for any sale, distribution, or use of affected products after the effective date of the cancellations and use terminations. Unless the provisions of an earlier order apply, existing stocks already in the hands of dealers or users can be distributed, sold, or used legally until they are exhausted, provided that such further sale and use comply with EPA-approved label and labeling of the affected product. Exception to these general rules will be made in specific cases when more stringent restrictions on sale, distribution, or use of the products or their ingredients have already been imposed, as in a Special Review action, or where the Agency has identified significant potential risk concerns associated with a particular chemical. The Agency does not anticipate any such exception to these general rules in this case.

List of Subjects

Environmental protection, Pesticides and pests.

Dated: November 21, 2003.
Betty Shackleford,
Acting Director, Special Review and Reregistration Division, Office of Pesticide Programs.

[FR Doc. 03-30165 Filed 12-4-03; 8:45 am]

BILLING CODE 6560-50-S